OFFICE OF THE UNITED STATES TRADE REPRESENTATIVE

Request for Comments on Negotiating Objectives With Respect to Japan's Participation in the Proposed Trans-Pacific Partnership Trade Agreement

AGENCY: Office of the United States Trade Representative (USTR).

ACTION: Request for comments and notice of a public hearing.

SUMMARY: The United States intends to commence negotiations with Japan as part of the ongoing negotiations of a Trans-Pacific Partnership (TPP) trade agreement. Including Japan in the negotiations furthers the objective of achieving a high-standard, broad-based Asia-Pacific regional agreement. In order to develop U.S. negotiating positions, the Office of the United States Trade Representative (USTR) is seeking comments from the public on all issues related to Japan's participation in the TPP negotiations. USTR also seeks comments on negotiations to address certain non-tariff measures of Japan that will be conducted bilaterally in parallel to the TPP negotiations and addressed by the conclusion of the TPP negotiations.

DATES: Written comments are due by 11:59 p.m., June 9, 2013. Persons wishing to testify orally at the hearing must provide written notification of their intention, as well as a summary of their testimony, by 11:59 p.m., June 9, 2013. The hearing will be held on July 2 beginning at 9:30 a.m., in the Main Hearing Room of the United States International Trade Commission, 500 E Street SW., Washington, DC 20436.

ADDRESSES: Comments from the public should be submitted electronically at www.regulations.gov. If you are unable to provide submissions at www.regulations.gov, please contact Yvonne Jamison, Trade Policy Staff Committee (TPSC), at (202) 395-3475, to arrange for an alternative method of transmission.

FOR FURTHER INFORMATION CONTACT: For procedural questions concerning written comments, please contact Yvonne Jamison at the above number. All other questions regarding this notice should be directed to Jordan Heiber, Director for Japan Affairs, at (202) 395-5070.

SUPPLEMENTARY INFORMATION:

1. Background

In November 2011, Japan formally expressed its intention to seek consultations with the TPP countries regarding Japan's possible participation in the TPP negotiations. On December 7, 2011, USTR published a notice in the Federal Register (76 FR 76478), seeking public comments on Japan's possible participation in the TPP negotiations.

On April 24, 2013, following Congressional consultations and after having reached consensus on Japan's participation with the other TPP negotiating partners, (Australia, Brunei Darussalam, Canada, Chile, Malaysia, Mexico, New Zealand, Peru, Singapore, and Vietnam), the U.S. Trade Representative notified Congress that the President intends to commence negotiations with Japan in the context of the ongoing negotiations of the TPP. The objective of this negotiation is to achieve a high-standard, 21st century agreement with a membership and coverage that provides economically significant market access opportunities for America's workers, manufacturers, service suppliers, farmers, ranchers, and small businesses. The addition of Japan to the group of TPP negotiating partners will contribute meaningfully to the achievement of these goals.

USTR is observing the relevant procedures of the Bipartisan Trade Promotion Authority Act of 2002 (19 U.S.C. 3804) with respect to notifying and consulting with Congress regarding the TPP negotiations. These procedures include providing Congress with 90 days advance written notice of the President's intent to enter into negotiations and consultation with appropriate Congressional interests regarding the negotiations.

In addition, under the Trade Act of 1974, as amended (19 U.S.C. 2151, 2153), in the case of an agreement such as the proposed TPP trade agreement, the President must (i) Afford interested persons an opportunity to present their views regarding any matter relevant to the proposed agreement, (ii) designate an agency or inter-agency committee to hold a public hearing regarding the proposed agreement, and (iii) seek the advice of the U.S. International Trade Commission (ITC) regarding the probable economic effect on U.S. industries and consumers of the removal of tariffs and non-tariff barriers on imports pursuant to the proposed agreement.

USTR intends to hold a public hearing on specific issues pertaining to Japan's participation in the TPP negotiations and with respect to the bilateral negotiations to address certain non-tariff measures of Japan on July 2, 2013. In addition, USTR has requested that the ITC provide advice to USTR on the probable economic effects of including Japan in a TPP trade agreement.

2. Public Comments

To assist USTR as it develops its negotiating objectives, the Chair of the Trade Policy Staff Committee (TPSC) invites interested persons to submit written comments and/or oral testimony at a public hearing on matters relevant to Japan's participation in the TPP negotiations and with respect to the bilateral negotiations to address certain non-tariff measures (for details on specific non-tariff measures to be discussed in the bilateral parallel negotiations, please refer to the “Motor Vehicles Terms of Reference,” which can be found at http://go.usa.gov/T5gQ, and the “Non-Tariff Measures: U.S. Consultations with Japan” fact sheet, which can be found at http://go.usa.gov/T5gB). Members of the public who submitted comments in response to the earlier request (76 FR 76478) need not make an additional submission unless the comments are different. Comments and testimony may address the reduction or elimination of tariffs or non-tariff barriers on any articles provided for in the Harmonized Tariff Schedule of the United States (HTSUS) that are products of Japan, any concession that should be sought by the United States, or any other matter relevant to the inclusion of Japan in the proposed TPP agreement or the parallel bilateral negotiations on non-tariff measures. The TPSC Chair invites comments on all of these matters and, in particular, seeks comments regarding:

(a) General and product-specific negotiating objectives for Japan in the context of the TPP negotiations;

(b) economic costs and benefits to U.S. producers and consumers of removal of tariffs and removal or reduction in non-tariff barriers on articles traded with Japan;

(c) treatment of specific goods (described by HTSUS numbers) under the proposed TPP agreement, including comments on—

(1) product-specific import or export interests or barriers,

(2) experience with particular measures that should be addressed in the negotiations, and

(3) approach to tariff negotiations, including recommended staging and ways to address export priorities and import sensitivities related to Japan in the context of the TPP agreement;

(d) adequacy of existing customs measures to ensure that qualifying imported goods from TPP countries, including Japan, receive preferential treatment, and appropriate rules of origin for goods entering the United States under the proposed TPP agreement;

(e) existing sanitary and phytosanitary measures and technical barriers to trade imposed by Japan that should be addressed in the TPP negotiations;

(f) existing barriers to trade in services between the United States and Japan that should be addressed in the TPP negotiations;

(g) relevant electronic commerce and cross-border data flow issues that should be addressed in the TPP negotiations;

(h) relevant investment issues that should be addressed in the TPP negotiations;

(i) relevant competition-related matters that should be addressed in the TPP negotiations;

(j) relevant government procurement issues, including coverage of any government agencies or state-owned enterprises engaged in procurements of interest, that should be addressed in the TPP negotiations;

(k) relevant environmental issues that should be addressed in the TPP negotiations;

(l) relevant labor issues that should be addressed in the TPP negotiations;

(m) relevant trade-related intellectual property rights issues that should be addressed in the TPP negotiations.

In addition to the matters described above, USTR is addressing new and emerging issues in this proposed regional agreement. Specifically, USTR is considering new approaches designed to promote innovation and competitiveness, encourage new technologies and emerging economic sectors, increase the participation of small- and medium-sized businesses in trade, and support the development of efficient production and supply chains that include U.S. firms in order to encourage firms to invest and produce in the United States. The TPSC Chair invites comments regarding how Japan's participation in the TPP negotiations might affect these new approaches. The TPSC Chair also invites comments on the impact of Japan's participation in the TPP negotiations on other trade-related priorities in the TPP agreement, including environmental protection and conservation, transparency, workers' rights and protections, development, and other issues.

USTR has already provided a notice and requested comments on the scope for an environmental review of the proposed TPP trade agreement (see 75 FR 14470, March 25, 2010). As described above, the present notice invites comments on, among other topics, environmental issues to be addressed in the TPP negotiations to take into account Japan's participation in the negotiation. Further comments are also invited on the environmental review, including possible changes in the scope or other issues that should be addressed in the review. At a later date, USTR, through the TPSC, will publish notice of reviews regarding the impact of the proposed agreement on U.S. employment and labor markets. These reviews will take into account Japan's participation in the negotiations.

A hearing will be held beginning at 9:30 a.m. on July 2, 2013 in the Main Hearing Room of the United States International Trade Commission, 500 E Street SW., Washington, DC 20436. Persons wishing to testify at the hearing must provide written notification of their intention by 11:59 p.m., June 9. The intent to testify notification must be made in the “Type Comment” field under docket number USTR-2013-0022 on the regulations.gov Web site and should include the name, address and telephone number of the person presenting the testimony. A summary of the testimony should be attached by using the “Upload File” field. The name of the file should also include who will be presenting the testimony. Remarks at the hearing should be limited to no more than five minutes to allow for possible questions from the TPSC.

3. Requirements for Submissions

Persons submitting comments must do so in English and must identify (on the first page of the submission) “Participation of Japan in the Trans-Pacific Partnership Trade Negotiations.” In order to be assured of consideration, comments should be submitted by 11:59 p.m., June 9, 2013. In order to ensure the timely receipt and consideration of comments, USTR strongly encourages commenters to make on-line submissions, using the www.regulations.gov Web site. To submit comments via www.regulations.gov, enter docket number USTR-2013-0022 on the home page and click “search.” The site will provide a search-results page listing all documents associated with this docket. Find a reference to this notice and click on the link entitled “Comment Now!” (For further information on using the www.regulations.gov Web site, please consult the resources provided on the Web site by clicking on “How to Use This Site” on the left side of the home page).

The www.regulations.gov Web site allows users to provide comments by filling in a “Type Comment” field, or by attaching a document using an “Upload File” field. USTR prefers that comments be provided in an attached document. If a document is attached, it is sufficient to type “See attached” in the “Type Comment” field. USTR prefers submissions in Microsoft Word (.doc) or Adobe Acrobat (.pdf). If the submission is in an application other than those two, please indicate the name of the application in the “Type Comment” field.

For any comments submitted electronically containing business confidential information, the file name of the business confidential version should begin with the characters “BC”. Any page containing business confidential information must be clearly marked “BUSINESS CONFIDENTIAL” on the top of that page. Filers of submissions containing business confidential information must also submit a public version of their comments. The file name of the public version should begin with the character “P”. The “BC” and “P” should be followed by the name of the person or entity submitting the comments or reply comments. Filers submitting comments containing no business confidential information should name their file using the name of the person or entity submitting the comments.

Please do not attach separate cover letters to electronic submissions; rather, include any information that might appear in a cover letter in the comments themselves. Similarly, to the extent possible, please include any exhibits, annexes, or other attachments in the same file as the submission itself, not as separate files.

As noted, USTR strongly urges submitters to file comments through www.regulations.gov, if at all possible. Any alternative arrangements must be made with Ms. Jamison in advance of transmitting a comment. Ms. Jamison should be contacted at (202) 395-3475. General information concerning USTR is available at www.ustr.gov.

Comments will be placed in the docket and open to public inspection, except business confidential information. Comments may be viewed on the http:www.regulations.gov Web site by entering the relevant docket number in the search field on the home page.

Laurie-Ann Agama,
Acting Chairman, Trade Policy Staff Committee.

[FR Doc. 2013-10724 Filed 5-6-13; 8:45 am]

BILLING CODE 3290-F3-P